DEPARTMENT OF COMMERCE

National Oceanic and Atmospheric Administration

RIN 0648-XU68

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council (MAFMC) and the New England Fishery Management Council's Joint Spiny Dogfish Committee will hold a public meeting.

DATES: The meeting will be held on Tuesday, March 16, 2010, from 8 a.m. to noon.

ADDRESSES: The workshop will be held at the Kingsmill Conference Center, 1010 Kingsmill Road, Williamsburg, VA 23185; telephone: (800) 832-5665.

Council address: Mid-Atlantic Fishery Management Council, 800 N. State St., Suite 201, Dover, DE 19901; telephone: (302) 674-2331.

FOR FURTHER INFORMATION CONTACT: Daniel T. Furlong, Executive Director, Mid-Atlantic Fishery Management Council; telephone: (302) 674-2331.

SUPPLEMENTARY INFORMATION: The purpose of the meeting is to consider the provisional MAFMC quota recommendation from its December meeting. A review of that recommendation is necessary in light of updates to spiny dogfish stock status that occurred through the recent Transboundary Resource Assessment Committee (TRAC) review.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aid should be directed to M. Jan Bryan, (302) 674-2331, at least 5 days prior to the meeting date.

Dated: February 23, 2010.
Tracey L. Thompson,
Acting Director, Office of Sustainable Fisheries, National Marine Fisheries Service.

[FR Doc. 2010-4017 Filed 2-25-10; 8:45 am]

BILLING CODE 3510-22-S